DEPARTMENT OF COMMERCE

National Oceanic and Atmospheric Administration

Agency Information Collection Activities; Submission to the Office of Management and Budget (OMB) for Review and Approval; Comment Request; Alaska Cost Recovery and Fee Programs

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before December 28, 2021.

ADDRESSES: Interested persons are invited to submit written comments to Adrienne Thomas, NOAA PRA Officer, at Adrienne.thomas@noaa.gov. Please reference OMB Control Number 0648-0711 in the subject line of your comments. Do not submit Confidential Business Information or otherwise sensitive or protected information.

FOR FURTHER INFORMATION CONTACT: Requests for additional information or specific questions related to collection activities should be directed to Gabrielle Aberle, 907-586-7228.

SUPPLEMENTARY INFORMATION:

I. Abstract

The National Marine Fisheries Service (NMFS), Alaska Regional Office, is requesting renewal of a currently approved information collection that contains requirements for the NMFS Alaska Region cost recovery fee programs and the observer coverage fee program. A slight revision is requested to change the title of the collection from “Alaska Quota Cost Recovery Programs” to “Alaska Cost Recovery and Fee Programs.”

This information collection is necessary under the Magnuson-Stevens Fishery Conservation and Management Act (Magnuson-Stevens Act), which authorizes observer deployment fees and cost recovery fees. Section 304(d) of the Magnuson-Stevens Act authorizes and requires the collection of cost recovery fees for limited access privilege programs and community development quota programs. Section 313 of the Magnuson-Stevens Act authorizes a system of fees to support a fisheries research plan and deploy observers in the North Pacific fisheries. The fee documentation forms and volume and value reports that are included in this collection are necessary to track, verify, and enforce the fee collection systems.

This information collection is required in Federal regulations at 50 CFR parts 679 and 680. Information on the observer coverage fee and cost recovery fee programs is provided on the NMFS Alaska Region website at https://www.fisheries.noaa.gov/alaska/commercial-fishing/cost-recovery-programs-fee-collection-and-fee-payment-alaska.

Cost recovery fees may not exceed 3 percent of the ex-vessel value of the fishery, and must recover the incremental (program) costs associated with management, data collection, and enforcement of these programs that are directly incurred by government agencies tasked with overseeing these fisheries. NMFS recovers program costs of seven cost recovery programs in this information collection: Pacific Halibut and Sablefish Individual Fishing Quota (IFQ) Program; Bering Sea and Aleutian Islands Crab Rationalization Program; Central Gulf of Alaska Rockfish Program; Western Alaska Community Development Quota Program; American Fisheries Act Program; Aleutian Islands Pollock Program; and Amendment 80 Program. The party responsible for paying the cost recovery fee varies by program.

The observer coverage fee funds deployment of observers and electronic monitoring in the partial coverage category of the North Pacific Observer Program (Observer Program). Unlike the cost recovery fees, this is a straight fee and does not recover incremental costs associated with the program. NMFS assesses a fee of 1.25 percent of the ex-vessel value of groundfish and halibut landed in the partial coverage category under the Observer Program. The information collected by observers provides scientific information for minimizing bycatch and managing the groundfish and halibut fisheries in the Bering Sea and Aleutian Islands and Gulf of Alaska.

Catcher vessel owners split the observer coverage fee with the registered buyers or owners of shore side or stationary floating processors. While the owners of catcher vessels and processors in the partial coverage category are each responsible for paying their portion of the fee, the owners of shore side or stationary floating processors and registered buyers are responsible for collecting the fees from catcher vessels, and remitting the full fee to NMFS. Owners of catcher/processors in the partial coverage category are responsible for remitting the full fee to NMFS.

Processors that receive and purchase landings of IFQ halibut or sablefish, rockfish, groundfish, and crab subject to observer and/or cost recovery fees must annually submit an ex-vessel volume and value report that provides information on the pounds purchased and value paid. NMFS uses this information to establish the total ex-vessel value of the fishery, calculate standard prices, and establish annual fee percentages in each fishery.

IFQ permit holders and registered crab receivers that do not agree with their NMFS assessed IFQ fee liability summary and who are paying a revised fee, use the fee documentation forms to calculate and submit documentation supporting their revised fee.

Any person who receives an initial administrative determination for incomplete payment of a cost recovery fee or observer coverage fee may appeal under the appeals procedures set out at 15 CFR part 906.

II. Method of Collection

NMFS collects all fees and the volume and value reports online through eFISH at https://alaskafisheries.noaa.gov/webapps/efish/login. The IFQ Permit Holder Fee Documentation Form, Registered Crab Receiver Fee Documentation Form, and the IFQ Register Buyer Ex-vessel Volume and Value Report form are available as fillable pdfs on the NMFS Alaska Region website at https://www.fisheries.noaa.gov/region/alaska. These forms and administrative appeals are submitted by mail or fax.

III. Data

OMB Control Number: 0648-0711.

Form Number(s): None.

Type of Review: Regular submission (extension of a current information collection).

Affected Public: Individuals or households; Business or other for-profit organizations.

Estimated Number of Respondents: 2,047.

Estimated Time per Response: Fee payments: 1 minute; volume and value reports (electronic submission): 1 minute; IFQ Registered Buyer Ex-vessel Volume and Value Report (non-electronic submission): 2 hours; fee documentation forms: 30 minutes; administrative appeals: 4 hours.

Estimated Total Annual Burden Hours: 97 hours.

Estimated Total Annual Cost to Public: $516 in recordkeeping/reporting costs.

Respondent's Obligation: Mandatory.

Legal Authority: Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-23571 Filed 10-28-21; 8:45 am]

BILLING CODE 3510-22-P